DEPARTMENT OF JUSTICE

Parole Commission

Meetings; Sunshine Act; Public Announcement Pursuant to the Government in the Sunshine Act (Pub. L. 94-409) [5 U.S.C. 552b]

AGENCY HOLDING MEETING: Department of Justice, United States Parole Commission.

DATE AND TIME: 10:30 a.m., Tuesday, November 9, 2010.

PLACE: U.S. Parole Commission, 5550 Friendship Boulevard, 4th Floor, Chevy Chase, Maryland 20815.

STATUS: Closed.

MATTERS CONSIDERED: The following matter will be considered during the closed meeting: Consideration of ten original jurisdiction cases pursuant to 28 CFR 2.27.

AGENCY CONTACT: Patricia W. Moore, Staff Assistant to the Chairman, United States Parole Commission, (301) 492-5933.

Dated: October 26, 2010.
Rockne Chickinell,
General Counsel, U.S. Parole Commission.

[FR Doc. 2010-27491 Filed 11-1-10; 8:45 am]

BILLING CODE 4410-31-M